FEDERAL DEPOSIT INSURANCE CORPORATION

Agency Information Collection Activities: Submission for OMB Review; Comment Request (OMB No. 3064-0109; 0124; and 0162)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995. The FDIC published notices of its intent to renew the information collections described below in the Federal Register and requested comment for 60 days. No comments were received. The FDIC hereby gives notice of its plan to submit to OMB a request to approve the renewal of these collections, and again invites comment on the renewal.

DATES: Comments must be submitted on or before August 13, 2018.

ADDRESSES: Interested parties are invited to submit written comments to the FDIC by any of the following methods:

• https://www.FDIC.gov/regulations/laws/federal.

• Email: comments@fdic.gov. Include the name and number of the collection in the subject line of the message.

• Mail: Manny Cabeza, Counsel, Room MB-3007, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Counsel, 202-898-3767, mcabeza@FDIC.gov, MB-3007, Federal Deposit Insurance Corporation, 550 17th Street NW, Washington, DC 20429.

SUPPLEMENTARY INFORMATION:

Proposal to renew the following currently approved collections of information:

1. Title: Notice of Branch Closure.

OMB Number: 3064-0109.

Form Number: None.

Affected Public: Insured depository institutions.

Burden Estimate:

Summary of Annual Burden
| Type of burden | Obligation to respond | Estimated number of respondents | Estimated time per response (hours) | Frequency of response | Average total annual estimated burden (hours)
Adoption of Closure Policy | Recordkeeping | Mandatory | 23 | 8 | One time | 184
Notice of Closure | Disclosure | Mandatory | 683 | 2 | On occasion | 1,366
Total Estimated Annual Burden |  |  |  |  |  | 1,550

General Description of Collection: Section 42 of the Federal Deposit Insurance Act mandates that an insured depository institution closing a branch notify its primary federal regulator not later than 90 days prior to the closing. The statute also provides that a notice be posted on the premises of the branch for the 30-day period immediately prior to the closing and that the customers be notified in a mailing at least 90 days prior to the closing. Each insured depository institution that has one or more branches is required to adopt a written policy for branch closings.

Burden Estimate Methodology and Assumptions:

There are no changes in the methodology or substance of this information collection. FDIC believes that the existing estimate of the time required to develop a written branch closure policy and to provide the required branch closure notices is accurate. The number of branch closure notifications is closely related to the number of branches closed, while the number of closure policy adoptions equals the number newly chartered branch banking institutions and the number of existing banking institutions that transition from having no branches to having at least one branch. To derive an estimate of average annual branch closure notifications, FDIC Risk Management Supervision (RMS) staff counted the number of full-service standalone and in-store branches that closed between 2015 and 2017. In addition, FDIC staff count the number of newly chartered branch banking institutions and the number of institutions that transitioned from having no branches to having at least one branch. To derive an estimate of average annual branch closure notifications, FDIC Risk Management Supervision (RMS) staff counted the number of full-service standalone and in-store branches that closed between 2015 and 2017. In addition, FDIC staff counted the number of newly chartered branch banking institutions and the number of institutions that transitioned from having no branches to having at least one branch. FDIC records reflect that there were 683 branch closures, on average, each year between 2015 and 2017. FDIC estimates that an average of 23 institutions each year will transition from having no branches to having at least one branch.

2. Title: Notification of Change of Insured Status.

OMB Number: 3064-0124.

Form Number: None.

Affected Public: Insured depository institutions.

Burden Estimate:

Summary of Annual Burden
| Type of burden | Obligation to respond | Estimated number of respondents | Estimated time per response (hours) | Frequency of response | Average total annual estimated burden (hours)
Certification | Reporting | Mandatory | 150 | .25 | On Occasion | 37.5
Notification | Disclosure | Mandatory | 2 | 1 | On Occasion | 2
Total Estimated Annual Burden |  |  |  |  |  | 39.5

General Description of Collection:

This information collection consists of two parts: (1) A certification that insured depository institutions provide the FDIC when all deposit liabilities from one insured depository institution are assumed from another insured depository institution, with the latter institution responsible for providing the certification, and (2) a notification that an insured depository institution provides to its depositors when it seeks to voluntarily terminate its insured status. The certification is necessary to implement the provisions of section 8(q) of the Federal Deposit Insurance Act, 12 U.S.C. 1818(q), regarding termination of the insured status of the transferring institution and termination of the separate deposit insurance coverage provided on deposit accounts assumed by the assuming institution. The depositor notification is required by section 8(a) (6) of the Federal Deposit Insurance Act, 12 U.S.C. 1818(a) (6). This provision ensures that the institution's depositors receive appropriate information regarding the institution's intent to terminate its insured status and that, prior to the termination of the institution's insured status, depositors receive appropriate information concerning federal deposit insurance coverage of their accounts once the institution's insured status is terminated.

There is no change in the methodology or substance of this information collection. The number of certifications submitted under this information collection is closely related to the number of insured depository institutions that are acquired by another depository institution through mergers or as a result of the closing of the institution by its chartering authority. The number of depositor notifications is driven by the number of institutions that elect to voluntarily terminate its insured status without having its deposits assumed by another insured depository institution. The change in burden is due to economic fluctuation reflected in a lower number of certifications following mergers or closures and a reduction in the number of notifications due to voluntary terminations of insured status.

3. Title: Large Bank Deposit Insurance Program.

OMB Number: 3064-0162.

Form Number: None.

Affected Public: Insured depository institutions having at least $2 billion in deposits and at least either: (a) 250,000 Deposit accounts; or (b) $20 billion in total assets, regardless of the number of deposit accounts (a “covered institution”).

Burden Estimate:

Summary of Annual Burden
| Type of burden | Obligation to respond | Average estimated number of respondents | Estimated time per response (hours) | Frequency of response | Average total annual estimated burden (hours)
Implementation
Posting and removing provisional holds—360.9(c)(1) and (2) | Recordkeeping | Mandatory | 8 | 150 | One time | 1,200
Providing standard data format for deposit account and customer information—360.9(d)(1) | Recordkeeping | Mandatory | 8 | 110 | One time | 880
Notification of identity of person responsible for producing standard data downloads—360.9(c)(3) | Reporting | Mandatory | 8 | 8 | One time | 64
Request for exemption from provisional hold requirements—360.9(c)(9) | Reporting | Voluntary | 1 | 20 | On occasion | 20
Provide deposit account and customer information in required standard format—360.9(d)(3) | Reporting | Mandatory | 8 | 40 | On occasion | 320
Request for extension of compliance deadline—360.9(e)(7) | Reporting | Voluntary | 1 | 20 | On occasion | 20
Request for exemption—360.9(f) | Reporting | Voluntary | 1 | 20 | On occasion | 20
Total Implementation Burden |  |  |  |  |  | 2,524
Ongoing
Notification of identity of person responsible for producing standard data downloads—360.9(c)(3) | Reporting | Mandatory | 153 | 8 | On occasion | 1,224
Request for exemption from provisional hold requirements—360.9(c)(9) | Reporting | Voluntary | 1 | 20 | On occasion | 20
Request for exemption—360.9(f) | Reporting | Voluntary | 1 | 20 | On occasion | 20
Test compliance with 360.9(c)-(d) pursuant to 360.9(h) | Reporting | Mandatory | 81 | 80 | On occasion | 6,480
Total Ongoing Burden |  |  |  |  |  | 7,744
Total Estimated Annual Burden |  |  |  |  |  | 10,268

General Description of Collection: Upon the failure of an FDIC-insured depository institution, the FDIC is required to pay insured deposits as soon as possible.¹ To do so, the FDIC must be able to quickly determine the total insured amount for each depositor. To make this determination, the FDIC must ascertain the balances of all deposit accounts owned by the same depositor in the same ownership capacity at a failed institution as of the day of failure. The FDIC issued a regulation (12 CFR 360.9) to modernize the process of determining the insurance status of each depositor in the event of failure of a covered institution. The regulation requires covered institutions to adopt mechanisms that would, in the event of the institution's failure (1) provide the FDIC with standard deposit account and other customer information, and (2) allow the placement and release of holds on liability accounts, including deposits. The regulation applies only to covered institutions and imposes the following recordkeeping and reporting requirements:

¹ The FDIC can meet its obligation to pay insured deposits either by payment in cash or by making available to each depositor a transferred deposit in a another insured depository institution. 12 U.S.C § 1821(f)(1).

Recordkeeping

360.9(c)(1) and (2)—Posting and Removing Provisional Holds. Covered institutions must have an automatic process for placing a provisional hold on deposit accounts within timeframes specified in FDIC regulations.

360.9(d)(1) and (2)—Providing Standard Data Format for Deposit Account and Customer Information. Covered institutions must produce information in the specified standard data format.

Reporting

360.9(c)(3)—Covered institutions must notify the FDIC of the person(s) responsible for producing required standard data downloads and for administering provisional holds.

360.9(c)(9)—A covered institution may request an exemption from the provisional hold requirements for certain account systems servicing a relatively small number of accounts where manual application of provisional holds is feasible.

360.9(d)(3)—Upon request by the FDIC, a covered institution must submit the data required by 360.9(d)(1) .

360.9(e)(7)—A covered institution may request an extension of the deadline to comply with provisional hold and standard data format requirements.

360.9(f)—A covered institution may request an exemption from the provisional hold and standard data format requirements due to high concentration of deposits incidental to credit card operations.

360.9(h)—A covered institution's compliance with the recordkeeping and reporting requirements set forth in the rule will be tested by the FDIC.

Burden Estimate Methodology and Assumptions:

The FDIC is revising its burden estimate because the number of covered institutions has decreased due to economic fluctuations and most covered institutions have already implemented the requirements of the regulation and will only face reduced ongoing compliance burdens. Based on FDIC Call Report data,² the regulation currently applies to 145 institutions. The FDIC has determined that in the past, between 1 and 3 new institutions per quarter have become covered under the regulation. FDIC estimates that on average, 2 new institutions per quarter (8 new institutions per year) will become covered and be subject to initial implementation burden. The following table reflects the FDCI's estimate of the breakdown of covered institutions facing implementation and ongoing burden during the next three years:

² FDIC Call Report, September 30, 2017.

Number of Institutions
| Year 1 | Year 2 | Year 3 | Average
Implementation | 8 | 8 | 8 | 8
Ongoing | 145 | 153 | 161 | 153
Total | 153 | 161 | 169 | 161

All covered institutions will be required to comply with the requirements of 360.9(h). FDIC estimates that half of the covered institutions will be tested for compliance each year. As a result, it is estimated that an average of 81 covered institutions will be affected by this reporting burden annually. No institutions have requested an extension under section 360.9(e)(7), or exemptions under sections 360.9(c)(9) or 360.9(f). The “Summary of Annual Burden” table above lists a respondent count of 1 for these requests as placeholders to preserve the burden estimates for these activities.

Request for Comment: Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on July 6, 2018.
Federal Deposit Insurance Corporation.
Robert E. Feldman,
Executive Secretary.

[FR Doc. 2018-14864 Filed 7-11-18; 8:45 am]

BILLING CODE 6714-01-P